COMMITTEE FOR PURCHASE FROM PEOPLE WHO ARE BLIND OR SEVERELY DISABLED

Procurement List; Additions and Deletions

AGENCY: Committee for Purchase From People Who Are Blind or Severely Disabled.

ACTION: Additions to and Deletions from Procurement List.

SUMMARY: This action adds to the Procurement List a service to be furnished by nonprofit agencies employing persons who are blind or have other severe disabilities, and deletes from the Procurement List services previously furnished by such agencies.

DATES: Effective Date: January 7, 2007.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail CMTEFedReg@jwod.gov.

SUPPLEMENTARY INFORMATION:

Additions

On September 29, 2006, the Committee for Purchase From People Who Are Blind or Severely Disabled published notice (71 FR 57464 ) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following service is added to the Procurement List:

Services

Service Type/Location: Full Food Service, FBI & Drug Enforcement Administration Training Academies, Quantico, VA.

NPA: ServiceSource, Inc., Alexandria, VA.

Contracting Activity: Federal Bureau of Investigation, Dept of Justice, Washington, DC.

Comments were received for the above addition from an association which represents State licensing agencies for the Randolph-Sheppard program (SLAs) and from the Virginia SLA. The association stated that the Committee's proposal to add full food service at the FBI and DEA training academies in Quantico, VA to the Procurement List is a violation of the Randolph-Sheppard Act, 20 U.S.C. 107 et seq., which the association believes establishes a “mandatory priority” for blind vendors to provide food services on Federal property.

The documentation submitted to the Committee as a basis for this proposed addition to the Procurement List included a document from the FBI which enclosed a statement from the Virginia SLA indicating that the SLA had reviewed the statement of work for the food service and was “not interested in submitting a proposal for these operations.” The Committee's program is well known to the Virginia SLA and the rest of the Randolph-Sheppard community, and the FBI, the Committee, and the other parties involved in developing this proposed addition to the Procurement List all regarded the Virginia SLA's statement as a knowing waiver of the Randolph-Sheppard priority. Relying on this waiver, the Committee's nonprofit community selected a nonprofit agency to provide the food service. That nonprofit agency has gone to considerable trouble and expense to prepare to provide the food service, which will generate employment for a substantial number of people with severe disabilities.

In the Virginia SLA's comment on the proposed addition, the same State official who earlier waived the Randolph-Sheppard priority now says that should the FBI offer to directly negotiate a contract for the food service with the SLA or publish a solicitation for the food service, the SLA “may” exercise its right to respond. The State official expressed surprise that the FBI had not offered to negotiate or solicit a contract after the SLA waived the Randolph-Sheppard priority.

According to the SLA comment, the FBI indicated that it considered the SLA's earlier waiver of its priority to be final, which would explain why no subsequent offer to negotiate or solicit for the food service was forthcoming. The Committee believes that allowing the SLA to ignore its own priority waiver at this late hour, when a capable nonprofit agency is ready to create many jobs by providing this food service and the SLA has identified no blind vendor ready and able to serve as an alternative provider, could not have been the intent of the Randolph-Sheppard Act. In the absence of the Randolph-Sheppard priority, the Committee sees no bar to adding the food service to the Procurement List.

Deletions

On September 29, 2006, the Committee for Purchase From People Who Are Blind or Severely Disabled published notice (70 FR 57464; 57465) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Custodial Services, Denver Federal Center (Buildings 41, 44, and 48), Denver, CO.

NPA: Aspen Diversified Industries, Inc., Colorado Springs, CO.

Contracting Activity: GSA, PBS Region 8, Denver, CO.

Service Type/Location: Janitorial/Custodial, Federal Records Center and USDA Laboratory, East Point, GA.

NPA: WORKTEC, Jonesboro, GA.

Contracting Activity: GSA, PBS.

Service Type/Location: Janitorial/Grounds and Related Services, Motor Pool Office and Garage, 450 N. Grande, Tucson, AZ.

NPA: Beacon Group SW, Inc., Tucson, AZ.

Contracting Activity: GSA, PBS—9PMFC, San Francisco, CA.

Service Type/Location: Repair of Small Hand Tools, Robins Air Force Base, Robins AFB, GA.

NPA: Epilepsy Association of Georgia, Warner Robins, GA.

Contracting Activity: Department of the Air Force.

Sheryl D. Kennerly,
Director, Information Management.

[FR Doc. E6-20364 Filed 11-30-06; 8:45 am]

BILLING CODE 6353-01-P